DEPARTMENT OF ENERGY

Federal Energy Regulatory Commission

Combined Notice of Filings #1

Take notice that the Commission received the following exempt wholesale generator filings:

Docket Numbers: EG24-174-000.

Applicants: West Warwick Energy Storage 1 LLC.

Description: West Warwick Energy Storage 1 LLC submits Notice of Self-Certification of Exempt Wholesale Generator Status.

Filed Date: 5/9/24.

Accession Number: 20240509-5125.

Comment Date: 5 p.m. ET 5/30/24.

Docket Numbers: EG24-175-000.

Applicants: West Warwick Energy Storage 2 LLC.

Description: West Warwick Energy Storage 2 LLC submits Notice of Self-Certification of Exempt Wholesale Generator Status.

Filed Date: 5/9/24.

Accession Number: 20240509-5126.

Comment Date: 5 p.m. ET 5/30/24.

Docket Numbers: EG24-176-000.

Applicants: West Warwick Energy Storage 3 LLC.

Description: West Warwick Energy Storage 3 LLC submits Notice of Self-Certification of Exempt Wholesale Generator Status.

Filed Date: 5/9/24.

Accession Number: 20240509-5128.

Comment Date: 5 p.m. ET 5/30/24.

Take notice that the Commission received the following electric rate filings:

Docket Numbers: ER23-1720-001.

Applicants: Holtville BESS, LLC.

Description: Notice of Change in Status of Holtville BESS, LLC.

Filed Date: 5/9/24.

Accession Number: 20240509-5172.

Comment Date: 5 p.m. ET 5/30/24.

Docket Numbers: ER24-330-001.

Applicants: Arizona Public Service Company.

Description: Compliance filing: FERC Order Nos. 2023 and 2023-A—Compliance Filing to be effective 7/9/2024.

Filed Date: 5/9/24.

Accession Number: 20240509-5152.

Comment Date: 5 p.m. ET 5/30/24.

Docket Numbers: ER24-1382-000.

Applicants: Horus Louisiana 1, LLC.

Description: Response to 04/25/2024, Deficiency Letter of Horus Louisiana 1, LLC.

Filed Date: 5/6/24.

Accession Number: 20240506-5162.

Comment Date: 5 p.m. ET 5/16/24.

Docket Numbers: ER24-1629-001.

Applicants: Andro Hydro, LLC.

Description: Andro Hydro, LLC submits request to Defer Action on its 03/13/2024 submittal, allowing for additional information to be provided in support of the Undivided Ownership, Operation and Maintenance Agreement.

Filed Date: 5/7/24.

Accession Number: 20240507-5154.

Comment Date: 5 p.m. ET 5/28/24.

Docket Numbers: ER24-1653-000.

Applicants: MRP Pacifica Marketing LLC.

Description: Supplement to March 29, 2024, MRP Pacifica Marketing LLC tariff filing.

Filed Date: 5/6/24.

Accession Number: 20240506-5119.

Comment Date: 5 p.m. ET 5/16/24.

Docket Numbers: ER24-1969-000.

Applicants: Tucson Electric Power Company.

Description: Tariff Amendment: Cancellation of Rate Schedule No. 321 to be effective 5/1/2024.

Filed Date: 5/8/24.

Accession Number: 20240508-5135.

Comment Date: 5 p.m. ET 5/29/24.

Docket Numbers: ER24-1970-000.

Applicants: Flemington Solar, LLC.

Description: Tariff Amendment: Notices of Cancellation and Withdrawals of Rate Schedules to be effective 5/10/2024.

Filed Date: 5/9/24.

Accession Number: 20240509-5002.

Comment Date: 5 p.m. ET 5/30/24.

Docket Numbers: ER24-1971-000.

Applicants: Frenchtown I Solar, LLC.

Description: Tariff Amendment: Notices of Cancellation and Withdrawals of Rate Schedules to be effective 5/10/2024.

Filed Date: 5/9/24.

Accession Number: 20240509-5003.

Comment Date: 5 p.m. ET 5/30/24.

Docket Numbers: ER24-1972-000.

Applicants: Frenchtown II Solar, LLC.

Description: Tariff Amendment: Notices of Cancellation and Withdrawals of Rate Schedules to be effective 5/10/2024.

Filed Date: 5/9/24.

Accession Number: 20240509-5004.

Comment Date: 5 p.m. ET 5/30/24.

Docket Numbers: ER24-1973-000.

Applicants: Frenchtown III Solar, LLC.

Description: Tariff Amendment: Notices of Cancellation and Withdrawals of Rate Schedules to be effective 5/10/2024.

Filed Date: 5/9/24.

Accession Number: 20240509-5005.

Comment Date: 5 p.m. ET 5/30/24.

Docket Numbers: ER24-1974-000.

Applicants: PA Solar Park, LLC.

Description: Tariff Amendment: Notices of Cancellation and Withdrawals of Rate Schedules to be effective 5/10/2024.

Filed Date: 5/9/24.

Accession Number: 20240509-5006.

Comment Date: 5 p.m. ET 5/30/24.

Docket Numbers: ER24-1975-000.

Applicants: PA Solar Park II, LLC.

Description: Tariff Amendment: Notices of Cancellation and Withdrawals of Rate Schedules to be effective 5/10/2024.

Filed Date: 5/9/24.

Accession Number: 20240509-5007.

Comment Date: 5 p.m. ET 5/30/24.

Docket Numbers: ER24-1976-000.

Applicants: Pilesgrove Solar, LLC.

Description: Tariff Amendment: Notices of Cancellation and Withdrawals of Rate Schedules to be effective 5/10/2024.

Filed Date: 5/9/24.

Accession Number: 20240509-5008.

Comment Date: 5 p.m. ET 5/30/24.

Docket Numbers: ER24-1977-000.

Applicants: Lakehurst Solar, L.L.C.

Description: Tariff Amendment: Notices of Cancellation and Withdrawals of Rate Schedules to be effective 5/10/2024.

Filed Date: 5/9/24.

Accession Number: 20240509-5009.

Comment Date: 5 p.m. ET 5/30/24.

Docket Numbers: ER24-1978-000.

Applicants: ISO New England Inc., New England Power Pool Participants Committee.

Description: 205(d) Rate Filing: ISO New England Inc. submits tariff filing per 35.13(a)(2)(iii: Revisions to the Attachment K Longer-Term Transmission Planning Process to be effective 7/9/2024.

Filed Date: 5/9/24.

Accession Number: 20240509-5064.

Comment Date: 5 p.m. ET 5/30/24.

Docket Numbers: ER24-1979-000.

Applicants: Alabama Power Company, Georgia Power Company, Mississippi Power Company.

Description: Tariff Amendment: Alabama Power Company submits tariff filing per 35.15: Origis Holdings USA Subco (Hammond I Solar & Storage) LGIA Termination Filing to be effective 5/9/2024.

Filed Date: 5/9/24.

Accession Number: 20240509-5114.

Comment Date: 5 p.m. ET 5/30/24.

Docket Numbers: ER24-1980-000.

Applicants: West Warwick Energy Storage 1 LLC.

Description: Baseline eTariff Filing: Warwick 1 Application for Market-Based Rate Authorization to be effective 5/15/2024.

Filed Date: 5/9/24.

Accession Number: 20240509-5138.

Comment Date: 5 p.m. ET 5/30/24.

Docket Numbers: ER24-1981-000.

Applicants: West Warwick Energy Storage 2 LLC.

Description: Baseline eTariff Filing: Warwick 2 Application for Market-Based Rate Authorization to be effective 6/1/2024.

Filed Date: 5/9/24.

Accession Number: 20240509-5141.

Comment Date: 5 p.m. ET 5/30/24.

Docket Numbers: ER24-1982-000.

Applicants: Wellesley BESS LLC.

Description: Baseline eTariff Filing: Application for Market Based Rate Authority to be effective 5/10/2024.

Filed Date: 5/9/24.

Accession Number: 20240509-5144.

Comment Date: 5 p.m. ET 5/30/24.

Docket Numbers: ER24-1983-000.

Applicants: West Warwick Energy Storage 3 LLC.

Description: Baseline eTariff Filing: Warwick 3 Application for Market-Based Rate Authorization to be effective 6/1/2024.

Filed Date: 5/9/24.

Accession Number: 20240509-5146.

Comment Date: 5 p.m. ET 5/30/24.

Docket Numbers: ER24-1984-000.

Applicants: Tri-State Generation and Transmission Association, Inc.

Description: 205(d) Rate Filing: Amendment to Rate Schedule FERC No. 27 to be effective 7/8/2024.

Filed Date: 5/9/24.

Accession Number: 20240509-5151.

Comment Date: 5 p.m. ET 5/30/24.

Docket Numbers: ER24-1985-000.

Applicants: PJM Interconnection, L.L.C.

Description: 205(d) Rate Filing: Amendment to WMPA, SA No. 5665; Queue No. AF1-032 (amend) to be effective 7/9/2024.

Filed Date: 5/9/24.

Accession Number: 20240509-5153.

Comment Date: 5 p.m. ET 5/30/24.

Docket Numbers: ER24-1986-000.

Applicants: Basin Electric Power Cooperative.

Description: 205(d) Rate Filing: Basin Electric, Submission of Revisions to Generator Interconnection Procedures to be effective 7/8/2024.

Filed Date: 5/9/24.

Accession Number: 20240509-5168.

Comment Date: 5 p.m. ET 5/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 9, 2024.
Debbie-Anne A. Reese,
Acting Secretary.

[FR Doc. 2024-10679 Filed 5-15-24; 8:45 am]

BILLING CODE 6717-01-P